DEPARTMENT OF DEFENSE

Department of the Navy

[Docket ID USN-2010-0027]

Privacy Act of 1974; System of Records

AGENCY: U.S. Marine Corps, Department of the Navy, DoD.

ACTION: Notice to add a system of records.

SUMMARY: The U.S. Marine Corps is proposing to add a system of records to its inventory of record systems subject to the Privacy Act of 1974, (5 U.S.C. 552a), as amended.

DATES: This proposed action will be effective without further notice on August 25, 2010, unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the Headquarters, U.S. Marine Corps, FOIA/PA Section (ARSF), 2 Navy Annex, Room 3134, Washington, DC 20380-1775.

The proposed system report, as required by 5 U.S.C. 552a(r), of the Privacy Act of 1974, as amended, was submitted on July 13, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: July 21, 2010.
Mitchell S. Bryman,
Alternate OSD Federal Register Liaison Officer, Department of Defense.

M01070-8

System name:

Marine Corps Wounded, Ill, and Injured Tracking System.

System location:

Manpower and Reserve Affairs (M&RA), 3280 Russell Road, Quantico, VA 22134-5103-5143.

Categories of individuals covered by the system:

Active Duty, Reserve, Retired, and former Marines and Sailors, attached to or in support of Marine units, who are undergoing treatment or recovering from injury or illness, and the family members involved with recovering service members and veterans throughout the phases of recovery.

Categories of records in the system:

The system contains personnel data which includes, name, rank/grade, Military Occupational Specialty (MOS), Social Security Number (SSN), date of birth, current address, contact information, beneficiary and next of kin information, blood type, service separation information, limited financial information for medical claim submission, spouse information, primary caregiver information, limited injury and illness-specific medical information, services provided, charitable gifts received, and other personnel management data.

Authority for maintenance of the system:

10 U.S.C. 5013, Secretary of the Navy; 10 U.S.C. 5041, Headquarters, Marine Corps: function, composition; and E.O. 9397, (SSN), as amended.

Purpose(s):

The Marine Corps Wounded, Ill, and Injured Tracking System (MCWIITS) provides the ability for identifying, tracking, and facilitating support to current and former ill (veterans) and injured Marines, Sailors attached to or in support of Marine units, and their families throughout all of the phases of recovery.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b) as follows.

The DoD ‘Blanket Routine Uses’ set forth at the beginning of the Marine Corps' compilation of systems of records notices apply to this system.

Policies and practices for storing, retrieving, accessing, retaining, and disposing of records in the system:

Storage:

Records are stored on electronic storage media.

Retrievability:

Name, Social Security Number (SSN), or date of birth.

Safeguards:

The system is located in a restricted area. All users are required to provide a valid common access card (CAC) protected by PKI authentication and access is specifically granted by a MCWIITS Administrator. Records in the MCWIITS are maintained in a secure, password protected electronic system that utilizes security hardware, software, and role-based access controls.

Retention and disposal:

Electronic records are maintained on all military personnel in MCWIITS while they are in service for a period of 11 months after separation. Disposition pending (until the National Archives and Records Administration approves retention and disposal schedule, records will be treated as permanent).

System manager(s) and address:

Branch Head, Manpower Information Systems Technology Branch, Manpower Information Systems Division, Manpower and Reserve Affairs Headquarters, U.S. Marine Corps, 3280 Russell Road, Quantico, VA 22134-5103.

Notification procedure:

Individuals seeking to determine whether information about themselves is contained in this system should address written inquiries to the Marine Corps Wounded, Injured and Ill Tracking System should submit written inquiries to Branch Head, Manpower Information Systems Technology Branch, Manpower Information Systems Division, Manpower and Reserve Affairs, Headquarters, U.S. Marine Corps, 3280 Russell Road, Quantico, VA 22134-5103.

Requests should contain individual's name, Social Security Number (SSN), complete mailing address, and must be signed and notarized.

Record access procedures:

Individuals seeking access to information about themselves contained in the Marine Corps Wounded, Injured and Ill Tracking System should submit written inquiries to Branch Head, Manpower Information Systems Technology Branch, Manpower Information Systems Division, Manpower and Reserve Affairs, Headquarters, U.S. Marine Corps, 3280 Russell Road, Quantico, VA 22134-5103.

Requests should contain individual's name, Social Security Number (SSN), complete mailing address, and must be signed and notarized.

Contesting record procedures:

The USMC rules for contesting contents and appealing initial agency determinations are published in Secretary of the Navy Instruction 5211.5; 32 CFR part 701; or may be obtained from the system manager.

Record source categories:

Individuals, Operational Data Store Enterprise (ODSE); and Defense Casualty Information Processing System (DCIPS).

Exemptions claimed for the system:

None.

[FR Doc. 2010-18250 Filed 7-23-10; 8:45 am]

BILLING CODE 5001-06-P